NATIONAL SCIENCE FOUNDATION

Special Emphasis Panel in Electrical and Communications Systems; Notice of Meeting

In accordance with the Federal Advisory Committee Act (Pub. L. 92-463, as amended), the National Science Foundation announces the following meeting:

Name: Special Emphasis Panel in Electrical and Communications Systems (1196).

Date/Time: April 25-26, 2001; 8:30 a.m. to 5:00 p.m.

Place: National Science Foundation, 4201 Wilson Blvd., Arlington, VA.

Type of Meeting: Closed.

Contact Person: Dr. Kishan Baheti, Program Director, Control, Networks, and Computational Intelligence Program (CNCI) National Science Foundations, 4201 Wilson Boulevard, Room 675, Arlington, VA 22230. Telephone (703) 292-8339.

Purpose: To provide advice and recommendations concerning proposals submitted to NSF for financial support.

Agenda: To review and evaluate research proposals in the CNCI program as part of the selection process for awards.

Reason for Closing: The proposals being reviewed include information of a proprietary or confidential nature, including technical information; financial data, such as salaries; and personal information concerning individuals associated with the proposals. These matters are within exemption 4 and 6 of 5 U.S.C. 552b. (c)(4) and (6) the Government in the Sunshine Act.

Reason for Late Notice: Conflicting schedules of members and the necessity to proceed with review of proposals.

Dated: April 10, 2001.
Susanne Bolton,
Committee Management Officer.

[FR Doc. 01-9211 Filed 4-12-01; 8:45 am]

BILLING CODE 7555-01-M